DEPARTMENT OF DEFENSE

Office of the Secretary

[Transmittal No. 24-1B]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 24-1B.

Dated: January 9, 2026.
Stephanie J. Bost,
Alternate OSD Federal Register Liaison Officer, Department of Defense.

BILLING CODE 6001-FR-P

BILLING CODE 6001-FR-C

Transmittal No. 24-1B

REPORT OF ENHANCEMENT OR UPGRADE OF SENSITIVITY OF TECHNOLOGY OR CAPABILITY (SEC. 36(B)(5)(C), AECA)

(i) Purchaser: Government of Australia

(ii) Sec. 36(b)(1), AECA Transmittal No.: 19-66

Date: January 14, 2020

Implementing Agency: Navy

(iii) Description: On January 14, 2020, Congress was notified by congressional certification transmittal number 19-66 of the possible sale, under Section 36(b)(1) of the Arms Export Contract Act, of long lead items, engineering development activities, and other defense services to support the Australian Surface Combatant Program, including the modernization of three Hobart Class Destroyers, and construction of the first three (of nine total) Hunter Class Frigates which included: three (3) shipsets of the AEGIS Weapon System (AWS) in the MK 6 Mod 1 configuration to support the Modernization of the Hobart Class DDGs; three (3) shipsets of the AEGIS Weapon System (AWS) in the MK 6 Mod 1 configuration to support the New Construction of the Hunter Class FFGs; three (3) shipsets of the MK 41 Vertical Launching Systems (VLS) for installation on the Hunter Class Frigates; three (3) shipsets (2 mounts per ship) of the Close-In Weapons System (CIWS) for installation on the Hunter Class Frigates; two (2) Australia AEGIS Weapon System Computer Programs (one for Hobart Class, one for Hunter Class), and associated computer programs for AEGIS Combat System components for installation on both the Hobart and Hunter Class ships; six (6) shipsets of the Global Positioning System (GPS)—Based Positioning, Navigation and Timing Service (GPNTS) Navigation Systems and associated Advanced Digital Antenna Production (ADAP) antennas and support equipment for installation on the Hobart and Hunter Class ships; six 6) shipsets of upgraded Cooperative Engagement Capability (CEC) equipment for installation on the Hobart and Hunter Class ships; six (6) shipsets of Command and Control Processor (C2P) equipment for installation on the Hobart and Hunter Class ships; and eight (8) shipsets of Multifunctional Information Distribution System Joint Tactical Radio Set (MIDS JTRS) terminals for installation on the Hobart and Hunter Class ships. Also included were: three (3) shipsets of MK 34 Gun Weapon System (GWS) modification equipment to include the Electro Optical Sight System and changes supporting Naval Fires Planner and associated TacLink Control System for installation on the Hobart Class Destroyers; three (3) shipsets of MK 34 Gun Weapon System components to include the MK 160 Gun Computing System and the MK 20 Electro Optical Sight System, and the Naval Fires Planner and associated TacLink Control System for installation on the Hunter Class Frigates; three (3) shipsets of: Mode 5/S capable Identification Friend or Foe (IFF) Systems; Gigabit Ethernet Data Multiplexing System (GEDMS); AN/WSN-7 Ring Laser Gyrocompass Inertial avigation Systems; WSN-9 Digital Hybrid Speed Log systems; Common Data Link Management System (CDLMS); and Global Command and Control System-Maritime (GCCS-M) systems for installation on the Hunter Class Frigates; six (6) shipsets of AN/SRQ-4 Hawklink and SQQ-89 Sonobuoy processing equipment for installation on the Hobart and Hunter Class ships; defense services for development and integration of a capability upgrade for the installed AEGIS Combat System on the Hobart Class Destroyer, including Integrated Air and Missile Defense capability and growth capability for Ballistic Missile Defense; development, integration and testing support for installation of a AEGIS Combat System for installation on the Hunter Class FFG, A Global Combat Ship Type 26 (BAE) platform, including the integration of the indigenous CEAFAR 2 Phased Array Radar (CEA Industries) with the AEGIS Combat System (including Cooperative Engagement Capability) and the primary radar sensor and illuminator; integration of selected Australian provided combat system components including Undersea Warfare and Ship Self Defense for installation on the Hobart and Hunter Class ships; integration of the MH-60R helicopter into the AEGIS Combat System for installation on the Hobart and Hunter Class ships; procurement and delivery of installation support material, special purpose test equipment, initial logistics outfitting, spares and other ancillary equipment to support the installation and integration of AEGIS Combat System equipment in the Hobart and Hunter Class ship platforms; development of technical documentation to support both programs; provision of logistics and other support services to support the Hobart and Hunter Class ships; procurement, staging, delivery and installation support for AEGIS Combat System equipment for the Hobart and Hunter Class ships; provision of training support for curriculum development, training tool development, front-end analysis, and crew training for the Hobart and Hunter Class ships; United States (U.S.) Government and contractor representative engineering, logistics, and technical services; and other related elements of logistics and program support for the Hobart and Hunter Class ships. The estimated total value was $1.5 billion. Major Defense Equipment (MDE) constituted $0.5 billion of this total.

This transmittal notifies the inclusion of additional equipment and services required to modernize Hobart Class Destroyers and Hunter Class Frigates for service in the Royal Australian Navy. Included are the following MDE items: three (3) AN/WSN-12 Ring Laser Gyrocompasses; three (3) MIDS On-Ship Modernization (MOS Mod) equipment suites; four (4) 5-inch 54-caliber MK 45 lightweight gun carcasses; and three (3) Tactical Tomahawk Weapons Control Systems (TTWCS). The following non-MDE items are also included: personnel training and U.S. Government and contractor engineering, technical, and logistics support services. The estimated total value of these new items and services is $641 million. The new MDE items will not result in a net increase in the estimated total MDE value, which will remain $0.5 billion. The estimated total value of the new non-MDE items is $0.5 billion, which will result in an increase in non-MDE value to $1.5 billion. The estimated total case value will increase by $0.5 billion to $2.0 billion.

(iv) Significance: This notification is being provided as the additional non-MDE items were enumerated in the original notification. The proposed sale will support Singapore's air to air and air to ground self-defense capability, and ability to defend its borders and contribute to coalition operations.

(v) Justification: This proposed sale will support the foreign policy and national security objectives of the U.S. by improving the security of a strategic partner that is an important force for political stability and economic progress in Asia.

(vi) Sensitivity of Technology:

The F-35A Lightning II aircraft is a single seat, single engine, all-weather, stealth, fifth- generation, multirole aircraft. It contains sensitive technology, including the low observable airframe and outer mold line (OML), Pratt and Whitney F135 engine, AN/APG-81 radar, integrated core processor central computer, mission systems and electronic warfare suite, multiple sensor suite, technical data and documentation, and associated software. Sensitive elements of the F-35A are also included in operational flight and maintenance trainers.

The F-35 Training System includes several training devices to provide integrated training for pilots and maintainers. The pilot training devices include a Full Mission Simulator (FMS) and Deployable Mission Rehearsal Trainer (DMRT). The maintenance training devices include an Aircraft Systems Maintenance Trainer (ASMT), Ejection System Maintenance Trainer (ESMT), OML Lab, Flexible Linear Shaped Charge (FLSC) Trainer, F135 Engine Module Trainer, and Weapons Loading Trainer (WLT). The F-35 Training System can be integrated, which allows both pilots and maintainers to learn at the same Integrated Training Center (ITC). Alternatively, pilots and maintainers can train at separate facilities (Pilot Training Center and Maintenance Training Center).

The Sensitivity of Technology Statement contained in the original notification applies to additional items reported here.

The highest level of classification of defense articles, components, and services included in this potential sale is SECRET.

(vii) Date Report Delivered to Congress: November 8, 2024

[FR Doc. 2026-00531 Filed 1-13-26; 8:45 am]

BILLING CODE 6001-FR-P